DEPARTMENT OF COMMERCE

15 CFR Part 1

[Docket ID 260107-0011]

RIN 0605-AA71

Removing Unnecessary Regulations Regarding the Seal of the Department of Commerce

AGENCY: Office of the Secretary, Department of Commerce.

ACTION: Final rule.

SUMMARY: By this rule, the Department of Commerce (“Department”) removes unnecessary regulations related to the Department's official seal. The intended effect is to reduce regulatory complexity and eliminate clutter from the Code of Federal Regulations.

DATES: The rule is effective on January 15, 2026.

FOR FURTHER INFORMATION CONTACT: Daniel Sweeney, Senior Counsel, Office of the General Counsel, at (202) 482-1395.

SUPPLEMENTARY INFORMATION:

I. Background

The Department of Commerce (the Department) is amending its regulations at 15 CFR part 1, which establish and govern its official seal, by removing two unnecessary regulations—§§ 1.1 and 1.3.

The regulations in 15 CFR part 1 govern the description, design, and use of the official seal of the Department. The authority for these regulations originates from the Act of February 14, 1903 (32 Stat. 825, as amended; 15 U.S.C. 1501), which established the Department and directed the Secretary of Commerce to create a seal of office, subject to Presidential approval. The design for the seal was subsequently approved by the President on April 4, 1913. The current regulations were published as a final rule in the Federal Register of June 26, 1968 (33 FR 9337), to codify existing standards and formally delegate the authority to affix the seal to official documents.

Section 1.1 states that the purpose of the part is to describe the seal and to delegate authority for its use on certifications and other official documents. Section 1.2 describes the historical basis and design of the seal, including its core components: a ship symbolizing commerce, a lighthouse representing commercial enlightenment and guidance, and an American bald eagle as the crest to denote the national scope of the Department's activities. Section 1.3 delegates the Secretary's authority to affix the seal for official purposes, including certifications under 28 U.S.C. 1733(b). This authority is granted to the Chief Administrative Officer of each operating unit and the Director of the Office of Administrative Services, with a provision allowing the Assistant Secretary for Administration to make further delegations.

Following a review of these regulations, the Department is removing §§ 1.1 and 1.3 for the reasons discussed below.

II. Discussion

This rule removes §§ 1.1 and 1.3 from 15 CFR part 1. The Department has determined that these regulations, which state the purpose of part 1 and delegate the authority to affix the Department's seal, are not necessary and do not provide any significant value to the public. Their removal represents a commonsense effort to streamline the Department's regulations and eliminate rules that provide no substantive guidance or requirements for the public.

Elimination of Unnecessary Regulations

As noted, § 1.3 delegates the authority to affix the seal to certain departmental officers and thus is a matter of internal agency administration. However, such delegations are elsewhere documented in Department Organization Orders 10-5 and 20-1 and Department Administrative Order 201-1. There is no compelling reason for these delegations to also be documented in the Code of Federal Regulations. Removing this section aligns the Department's practices with modern standards of administrative governance by separating internal management procedures from public-facing substantive regulations.

Section 1.1, meanwhile, serves as only a statement of the purpose of part 1. With the elimination of § 1.3, the Department has determined that § 1.1 is fit for elimination as well, since the purpose and contents of § 1.2—the only other section of part 1—are sufficiently clear based on the language of § 1.2 by itself.

III. Classification

A. Administrative Procedure Act

Pursuant to 5 U.S.C. 553(a)(2), the provisions of the APA requiring notice of proposed rulemaking and the opportunity for public participation are inapplicable to this rule because it relates to “agency management or personnel or to public property, loans, grants, benefits, or contracts.” This rule modifies 15 CFR part 1, which is related to the Department's management of its official seal and the authority among agency personnel to affix the seal to official documents, and thus falls within the scope of 5 U.S.C. 553(a)(2).

B. Executive Orders 12866, 14192, 13132

The Office of Management and Budget has determined this rule is not significant pursuant to E.O. 12866. This rule is an E.O. 14192 deregulatory action. This rule does not contain policies having federalism implications as the term is defined in E.O. 13132.

C. Regulatory Flexibility Act

Because a notice of proposed rulemaking and an opportunity for public participation are not required to be given for this rule by 5 U.S.C. 553(a)(2), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501, et seq.

List of Subjects for 15 CFR Part 1

Administrative practice and procedure, Authority delegations (Government agencies), Organization and functions (Government agencies), Seals and insignia.

Dated: January 13, 2026.
Paul Dabbar,
Deputy Secretary of Commerce.

Accordingly, for the reasons set forth above, part 1 of title 15 of the Code of Federal Regulations is amended as follows:

PART 1—THE SEAL OF THE DEPARTMENT OF COMMERCE

1. The authority citation for part 1 continues to read as follows:

Authority: Sec. 1, 32 Stat. 825, as amended, 15 U.S.C. 1501.

§ 1.1 [Removed and Reserved]

2. Remove and reserve § 1.1.

§ 1.3 [Removed and Reserved]

3. Remove and reserve § 1.3.

[FR Doc. 2026-00688 Filed 1-14-26; 8:45 am]

BILLING CODE 3510-17-P